ENVIRONMENTAL PROTECTION AGENCY

[ER-FRL-6636-3]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 12, 2002 (67 FR 17992).

DRAFT EISs

ERP No. D-AFS-J65367-MT Rating EC2, Garver Project, Harvest and Old Growth Regeneration, Implementation, Kootenai National Forest, Three Rivers Ranger District, Lincoln County, MT.

Summary: EPA expressed environmental concerns regarding impacts to water quality from the proposed 1,250 acres of tractor timber harvest in a 303(d) listed water body and about minimal water quality monitoring. Fuel reduction treatments were well planned and designed with many protective measures.

ERP No. D-AFS-J65369-MT Rating EC2, Windmill Timber Sale and Road Decommissioning Project, Timber Harvesting, Road Construction and Road Decommissioning, Mill Creek Drainage, Absaroka Mountain Range, Gallatin National Forest, MT.

Summary: EPA expressed environmental concerns with potential effects of timber harvests and road construction to water quality, and to wildlife species dependent upon old growth habitats. EPA recommends that additional information on aquatic monitoring should be included in the final EIS.

ERP No. D-FTA-E59002-NC Rating LO, South Corridor Light Rail Project to Provide Light Rail Service between the Town of Pineville, and Downtown Charlotte, City of Charlotte, Charlotte-Mecklenburg County, NC.

Summary: EPA lacks objections to the project as proposed and believes that the DEIS provided adequate information on the project's environmental impacts.

ERP No. D-NPS-J65365-00 Rating EC2, Glen Canyon National Area, Personal Watercraft Rule-Making, Implementation, Lake Powell, Coconino County, AZ and Garfield, Kane, San Juan and Wayne Counties, UT.

Summary: EPA expressed environmental concerns with potential impacts to water quality, specifically that it is not clear if Utah water quality standards are being violated. In addition, the DEIS does not disclose strategies for management of personal watercraft on Lake Powell. EPA recommends that a monitoring plan be included, given the potential for violation of water quality standards.

Final EISs

ERP No. F-AFS-J65337-MT Cave Gulch Post-Fire Salvage Sale, Harvesting Dead or Dying Trees, Implementation, Helena National Forest, Big Belts Mountain, Lewis and Clark County, MT.

Summary: EPA expressed environmental concerns about potential adverse impacts of timber harvest on water quality limited Magpie and Hellgate Creeks, already impacted by wildfire. EPA supported proposed road decommissioning, Grouse Creek restoration, revegetation, and other mitigation measures, and supported proposed monitoring to document and validate minimal impacts.

ERP No. F-DOE-L09814-ID Idaho High-Level Waste and Facilities Disposition, Alternatives for Managing High-Level Waste, Mixed Transuranic Waste/Sodium Bearing Waste and Associated Radioactive Wastes Evaluation, Bannock, Bingham, Bonneville, Butte, Madison, Clark, and Jefferson Counties, ID.

Summary: EPA continues to have environmental objections because the EIS does not clearly indicate how the separation alternatives meet the requirments of DOE Order 435.1 and about the option of treating High-Level Waste (HLW) at Hanford. EPA also has serious concerns with the lack of a clearly defined preferred alternative in the FEIS. EPA recommends that DOE select a preferred alternative that does not commit to treating HLW at Hanford and which commits to an early decision concerning the closure of the Calciner.

Dated: December 23, 2002.
Joseph C. Montgomery,
Director, NEPA Compliance Division, Office of Federal Activities.

[FR Doc. 02-32788 Filed 12-26-02; 8:45 am]

BILLING CODE 6560-50-P